LEGAL SERVICES CORPORATION

Notice and Request for Comments: LSC Elimination of the Nevada, South Dakota, and Wyoming Migrant Service Areas Beginning April 1, 2011

AGENCY: Legal Services Corporation.

ACTION: Notice and Request for Comments—LSC Elimination of the Nevada, South Dakota, and Wyoming Migrant Service Areas.

SUMMARY: The Legal Services Corporation will eliminate the Nevada, South Dakota, and Wyoming migrant service areas: MNV, MSD, and MWY, effective April 1, 2011, because any eligible migrant population in these states can be more effectively and efficiently served through the respective state's basic field-general grant.

DATES: Written comments must be received on or before February 22, 2011.

ADDRESSES: Written comments may be submitted by mail or e-mail to Reginald J. Haley, Office of Program Performance, Legal Services Corporation, 3333 K St., NW., Washington, DC 20007; or haleyr@lsc.gov.

FOR FURTHER INFORMATION CONTACT: Reginald J. Haley, Office of Program Performance, Legal Services Corporation, 3333 K St., NW., Washington, DC 20007; or by email at haleyr@lsc.gov.

SUPPLEMENTARY INFORMATION: The Legal Services Corporation's (LSC) mission is to promote equal access to justice and to provide for high-quality civil legal assistance to low-income persons. Pursuant to its statutory authority, LSC designates service areas in U.S. states, territories, possessions, and the District of Columbia for which it provides grants to legal aid programs to provide free civil legal services, primarily through “basic field-general” grants based on poverty populations.

In some regions, LSC designates migrant service areas for grants that are designed to specifically serve the legal needs of eligible migrant farmworker populations. The funding for migrant service areas is taken out of the funding for the basic field-general service areas also covering those populations based on the estimated number of eligible migrants as a portion of the total poverty population.

For many years LSC has designated migrant service areas in Nevada, South Dakota, and Wyoming. LSC has been informed that the eligible migrant populations in Nevada, South Dakota, and Wyoming are not sufficient in numbers to maintain a separate migrant service area in those states. LSC has reviewed this matter and determined that, based on the available information; it would be more effective and efficient to serve the legal needs of the eligible migrant populations in Nevada, South Dakota, and Wyoming through the basic field-general grants in those states rather than providing separate migrant grants.

LSC provides grants through a competitive bidding process, which is regulated by 45 CFR part 1634. In 2010, LSC implemented a competitive grants process for 2011 calendar year funding that included, inter alia, the Nevada, South Dakota, and Wyoming migrant service areas. LSC determines the term of grants after applications have been received. For 2011, LSC awarded a three-month migrant grant for Nevada to Nevada Legal Services, for South Dakota to Dakota Plains Legal Services and for Wyoming to Legal Aid of Wyoming. These grants are effective January 1, 2011, through March 31, 2011.

LSC intends to eliminate the Nevada, South Dakota, and Wyoming migrant service areas beginning April 1, 2011. Funding for the eligible migrant populations of Nevada, South Dakota, and Wyoming will be restored to those states' basic field-general grants. LSC expects that the recipients of those grants, i.e., Nevada Legal Services, Dakota Plains Legal Services, and Legal Aid of Wyoming, will continue to provide services to the eligible migrant populations as part of their basic field-general grants.

LSC invites public comment on this decision. Interested parties may submit comments to LSC within a period of thirty (30) days from the date of publication of this notice. More information about LSC can be found at LSC's Web site: http://www.lsc.gov.

Dated: December 13, 2010.
Victor M. Fortuno,
President and General Counsel, Legal Services Corporation.

[FR Doc. 2010-32294 Filed 1-20-11; 9:45 am]

BILLING CODE P